DEPARTMENT OF TRANSPORTATION

Federal Aviation Administration

Notice of Intent To Rule on Application To Impose and Use the Revenue From a Passenger Facility Charge (PFC) at Tampa International, Tampa, FL

AGENCY: Federal Aviation Administration (FAA), DOT.

ACTION: Notice of intent to rule on application.

SUMMARY: The FAA proposes to rule and invites public comment on the application to impose and use the revenue from a PFC at Tampa International Airport under the provisions of the Aviation Safety and Capacity Expansion Act of 1990 (Title IX of the Omnibus Budget Reconciliation Act of 1990) (Pub. L. 101-508) and Part 158 of the Federal Aviation Regulations (14 CFR Part 158).

DATES: Comments must be received on or before May 10, 2000.

ADDRESSES: Comments on this application may be mailed or delivered in triplicate to the FAA at the following address: Orlando Airports District Office, Federal Aviation Administration, 5950 Hazeltine National Dr., Suite 400, Orlando, Florida 32822-5024.

In addition, one copy of any comments submitted to the FAA must be mailed or delivered to Mr. Louis E. Miller, Executive Director of the Hillsborough County Aviation Authority at the following address: Tampa International Airport, Terminal Building, 3rd Level, Blue Side, Tampa, Florida 32622.

Air carriers and foreign air carriers may submit copies of written comments previously provided to the Hillsborough County Aviation Authority under section 158.23 of Part 158.

FOR FURTHER INFORMATION CONTACT: Ms. Susan A. Moore, Program Manager, Orlando Airports District Office, Federal Aviation Administration, 5950 Hazeltine National Dr., Suite 400, Orlando, Florida 32822-5024, (407) 812-6331, extension 20. The application may be reviewed in person at this same location.

SUPPLEMENTARY INFORMATION: The FAA proposes to rule and invites public comment on the application to impose and use the revenue from a PFC at Tampa International Airport under the provisions of the Aviation Safety and Capacity Expansion Act of 1990 (Title IX of the Omnibus Budget Reconciliation Act of 1990) (Pub. L. 101-508) and Part 158 of the Federal Aviation Regulations (14 CFR Part 158).

On March 23, 2000, the FAA determined that the application to impose and use the revenue from a PFC submitted by Hillsborough County Aviation Authority was substantially complete within the requirements of section 158.25 of Part 158. The FAA will approve or disapprove the application, in whole or in part, no later than July 7, 2000.

The following is a brief overview of the application.

PFC Application No.: 00-04-C-00-TPA.

Level of the proposed PFC: $3.00.

Proposed charge effective date: July 1, 2002.

Proposed charge expiration date: October 1, 2007.

Total estimated net PFC revenue: $124,728,400.

Brief description of proposed project(s): Airside E development; Departure level expansion and modernization; Purchase passenger loading bridges; Taxiway J extension; Reconstruct portion Taxiway A.

Class or classes of air carriers which the public agency has requested not be required to collect PFCs: On-demand air taxi/commercial operators that (1) do not enplane or deplane passengers at the Authority's main passenger terminal buildings, or (2) enplane less than 500 passengers per year at the Airport.

Any person may inspect the application in person at the FAA office listed above under FOR FURTHER INFORMATION CONTACT.

In addition, any person may, upon request, inspect the application, notice and other documents germane to the application in person at the Hillsborough County Aviation Authority.

Issued in Orlando, Florida on March 23, 2000.
W. Dean Stringer,
Manager, Orlando Airports District Office, Southern Region.

[FR Doc. 00-7858 Filed 4-7-00; 8:45 am]

BILLING CODE 4910-13-M